NEIGHBORHOOD REINVESTMENT CORPORATION

Regular Board of Directors Meeting; Sunshine Act

TIME AND DATE: 3:30 p.m., Thursday, December 4, 2014.

PLACE: NeighborWorks America—Gramlich Boardroom, 999 North Capitol Street NE., Washington, DC 20002.

STATUS: Open (with the exception of Executive Session).

CONTACT PERSON: Jeffrey Bryson, General Counsel/Secretary, (202) 760-4101; jbryson@nw.org.

AGENDA:

I. Call to Order

II. Recognition of Carol Galante

III. Approval of Minutes

IV. Executive Session: CEO Search Update

V. Executive Session: Transition Update

VI. Executive Session: Bank of America Settlement Update

VII. Executive Session: Corporate Administration Committee Update Items

VIII. Board Appointments

IX. Sustainable Homeownership Project Phase 2 Extension

X. Success Measures Data Systems Approval

XI. Board Meetings Scheduling

XII. Organizational Underwriting & Grants to Network

XIII. New Strategic Plan

XIV. Financial & Audit Update

XV. Management Updates

XIV. Adjourment

Jeffrey T. Bryson,
EVP & General Counsel/Corporate Secretary.

[FR Doc. 2014-28262 Filed 11-25-14; 4:15 pm]

BILLING CODE 7570-02-P